DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section for effective date.

FOR FURTHER INFORMATION CONTACT: OFAC: Associate Director for Global Targeting, tel.: 202-622-2420; Assistant Director for Sanctions Compliance & Evaluation, tel.: 202-622-2490; Assistant Director for Licensing, tel.: 202-622-2480.

SUPPLEMENTARY INFORMATION:

Electronic Availability

The Specially Designated Nationals and Blocked Persons List and additional information concerning OFAC sanctions programs are available on OFAC's website (https://www.treasury.gov/ofac).

Notice of OFAC Actions

On April 15, 2021, OFAC determined that the property and interests in property subject to U.S. jurisdiction of the following persons are blocked under the relevant sanctions authorities listed below.

Individuals

1. GROMOV, Alexei Alexeyevich, Russia; DOB 31 May 1960; POB Zagorsk (Sergiev, Posad), Moscow Region, Russia; nationality Russia; Gender Male; First Deputy Chief of Staff of the Presidential Executive Office; First Deputy Head of Presidential Administration; First Deputy Presidential Chief of Staff (individual) [UKRAINE-EO13661] [ELECTION-EO13848].

Designated pursuant to section 2(a)(i) of Executive Order 13848 of September 12, 2018, “Imposing Certain Sanctions in the Event of Foreign Interference in a United States Election,” (E.O. 13848) for having directly or indirectly engaged in, sponsored, concealed, or otherwise been complicit in foreign interference in a United States election.

2. MALKEVICH, Alexander Aleksandrovich, St. Petersburg, Russia; DOB 14 Jun 1975; POB Leningrad, Russia; nationality Russia; Gender Male; Passport 717637093 (Russia); National ID No. 781005202108 (Russia) (individual) [UKRAINE-EO13661] [CYBER2] [ELECTION-EO13848] (Linked To: USA REALLY; Linked To: PRIGOZHIN, Yevgeniy Viktorovich).

Designated pursuant to section 2(a)(iii) of E.O. 13848 for being owned or controlled by, or having acted or purported to act for or on behalf of, directly or indirectly, YEVGENIY VIKTOROVICH PRIGOZHIN, a person whose property and interests in property are blocked pursuant to E.O. 13848.

Also designated pursuant to section l(a)(iii)(C) of Executive Order 13694 of April 1, 2015, “Blocking Property of Certain Persons Engaging in Significant Malicious Cyber-Enabled Activities,” as amended by Executive Order 13757 of December 28, 2016, “Taking Additional Steps to Address the National Emergency With Respect to Significant Malicious Cyber-Enabled Activities,” (E.O. 13694, as amended) for being owned or controlled by, or having acted or purported to act for or on behalf of, directly or indirectly, YEVGENIY VIKTOROVICH PRIGOZHIN, a person whose property and interests in property are blocked pursuant to E.O. 13694, as amended.

Also designated pursuant to section l(a)(ii)(C)(2) of Executive Order 13661 of March 16, 2014, “Blocking Property of Additional Persons Contributing to the Situation in Ukraine,” (E.O. 13661) for being owned or controlled by, or having acted or purported to act for or on behalf of, directly or indirectly, YEVGENIY VIKTOROVICH PRIGOZHIN, a person whose property and interests in property are blocked pursuant to E.O. 13661.

3. SHCHERBAKOV, Kirill Konstantinovich, Moscow, Russia; DOB 18 May 1968; POB Russia; nationality Russia; Gender Male; Tax ID No. 774302261730 (Russia) (individual) [UKRAINE-EO13661] [CYBER2] [ELECTION-EO13848] (Linked To: OOO YUNIDZHET).

Designated pursuant to section 2(a)(iii) of E.O. 13848 for being owned or controlled by, or having acted or purported to act for or on behalf of, directly or indirectly, OOO YUNIDZHET, a person whose property and interests in property are blocked pursuant to E.O. 13848.

Also designated pursuant to section l(a)(iii)(C) of E.O. 13694, as amended for being owned or controlled by, or having acted or purported to act for or on behalf of, directly or indirectly, OOO YUNIDZHET, a person whose property and interests in property are blocked pursuant to E.O. 13694, as amended.

Also designated pursuant to section l(a)(ii)(C)(2) of E.O. 13661 for being owned or controlled by, or having acted or purported to act for or on behalf of, directly or indirectly, OOO YUNIDZHET, a person whose property and interests in property are blocked pursuant to E.O. 13661.

4. STEPANOV, Artem Nikolaevich (Cyrillic: СТЕПАНОВ, Артём Николаевич), Moscow, Russia; DOB 31 Mar 1980; POB Russia; nationality Russia; Gender Male; Tax ID No. 504403080602 (Russia) (individual) [UKRAINE-EO13661] [CYBER2] [ELECTION-EO13848] (Linked To: PRIGOZHIN, Yevgeniy Viktorovich).

Designated pursuant to section 2(a)(ii) of E.O. 13848 for having materially assisted, sponsored, or provided financial, material, or technological support for, or goods or services to or in support of, YEVGENIY VIKTOROVICH PRIGOZHIN, a person whose property and interests in property are blocked pursuant to E.O. 13848.

Also designated pursuant to section 1(a)(iii)(B) E.O. 13694, as amended for having materially assisted, sponsored, or provided financial, material, or technological support for, or goods or services to or in support of, YEVGENIY VIKTOROVICH PRIGOZHIN, a person whose property and interests in property are blocked pursuant to E.O. 13694, as amended.

Also designated pursuant to section 1(a)(ii)(D)(2) of E.O. 13661 for having materially assisted sponsored, or provided financial, material, or technological support for, or goods or services to or in support of, YEVGENIY VIKTOROVICH PRIGOZHIN, a person whose property and interests in property are blocked pursuant to E.O. 13661.

5. ZUEVA, Mariya Evgenevna (a.k.a. ZUEVA, Mariia Yevgenyevna), Moscow, Russia; DOB 28 May 1983; POB Russia; nationality Russia; Gender Female; Tax ID No. 331403452400 (Russia) (individual) [UKRAINE-EO13661] [CYBER2] [ELECTION-EO13848] (Linked To: OOO YUNIDZHET).

Designated pursuant to section 2(a)(iii) of E.O. 13848 for being owned or controlled by, or having acted or purported to act for or on behalf of, directly or indirectly, OOO YUNIDZHET, a person whose property and interests in property are blocked pursuant to E.O. 13848.

Also designated pursuant to section l(a)(iii)(C) of E.O. 13694, as amended for being owned or controlled by, or having acted or purported to act for or on behalf of, directly or indirectly, OOO YUNIDZHET, a person whose property and interests in property are blocked pursuant to E.O. 13694, as amended.

Also designated pursuant to section l(a)(ii)(C)(2) of E.O. 13661 for being owned or controlled by, or having acted or purported to act for or on behalf of, directly or indirectly, OOO YUNIDZHET, a person whose property and interests in property are blocked pursuant to E.O. 13661.

6. AHMED, Shahzad (a.k.a. AMIN, Shahzad), Lahore, Pakistan; DOB 14 Dec 1987; nationality Pakistan; Email Address shy4angels@gmail.com; alt. Email Address shahzadsmb@gmail.com; Gender Male; National ID No. 3420204688179 (Pakistan) (individual) [CYBER2] [ELECTION-EO13848] (Linked To: SECONDEYE SOLUTION).

Designated pursuant to section 2(a)(iii) of E.O. 13848 for being owned or controlled by, or having acted or purported to act for or on behalf of, directly or indirectly, SECONDEYE SOLUTION, a person whose property and interests in property are blocked pursuant to E.O. 13848.

Also designated pursuant to section l(a)(iii)(C) of E.O. 13694, as amended for being owned or controlled by, or having acted or purported to act for or on behalf of, directly or indirectly, SECONDEYE SOLUTION, a person whose property and interests in property are blocked pursuant E.O. 13694, as amended.

7. HASNAIN, Syed Johar, Karachi, Pakistan; DOB 30 Dec 1987; nationality Pakistan; Gender Male; National ID No. 4220106151401 (Pakistan) (individual) [CYBER2] [ELECTION-EO13848] (Linked To: SECONDEYE SOLUTION).

Designated pursuant to section 2(a)(iii) of E.O. 13848 for being owned or controlled by, or having acted or purported to act for or on behalf of, directly or indirectly, SECONDEYE SOLUTION, a person whose property and interests in property are blocked pursuant to E.O. 13848.

Also designated pursuant to section l(a)(iii)(C) of E.O. 13694, as amended for being owned or controlled by, or having acted or purported to act for or on behalf of, directly or indirectly, SECONDEYE SOLUTION, a person whose property and interests in property are blocked pursuant E.O. 13694, as amended.

8. HAYAT, Muhammad Khizar (a.k.a. AL KARBALAI, Muhammad Khizar; a.k.a. HAYAT JAFFRI, Muhammad Khizar; a.k.a. HAYAT, Mohammad Khizar), Karachi, Pakistan; DOB 14 Jul 1994; POB Karachi, Pakistan; nationality Pakistan; Email Address khizarh11@yahoo.com; alt. Email Address khizarhayat.jaffri@yahoo.com; alt. Email Address muhammadkhizar.hayatjaffri@yahoo.com; alt. Email Address mygreentree59@yahoo.com; alt. Email Address khizar14hayat@gmail.com; alt. Email Address muhammadkhizarhayatjaffri@yahoo.com; Gender Male; Passport EB617700 (Pakistan); National ID No. 4210191597005 (Pakistan) (individual) [CYBER2] [ELECTION-EO13848] (Linked To: SECONDEYE SOLUTION).

Designated pursuant to section 2(a)(iii) of E.O. 13848 for being owned or controlled by, or having acted or purported to act for or on behalf of, directly or indirectly, SECONDEYE SOLUTION, a person whose property and interests in property are blocked pursuant to E.O. 13848.

Also designated pursuant to section l(a)(iii)(C) of E.O. 13694, as amended for being owned or controlled by, or having acted or purported to act for or on behalf of, directly or indirectly, SECONDEYE SOLUTION, a person whose property and interests in property are blocked pursuant E.O. 13694, as amended.

9. RAZA, Mujtaba Ali (a.k.a. LILANI, Mujtaba Ali; a.k.a. RAZA, Mujtaba), Karachi, Pakistan; DOB 21 Oct 1987; nationality Pakistan; Email Address threatcc@gmail.com; alt. Email Address mujtaba@forwarderz.com; Gender Male; Digital Currency Address—XBT 1KSAbh5trMCTZwhiNsuUQvfTtSSTT8zqRk; alt. Digital Currency Address—XBT 1BiUFjzH6wsT73U3tfy4aXHCQsYQHzjk5h; Digital Currency Address—LTC LeKvNdNEzgQkzVVnRdV3fAu2DSF1nLsNw6; Digital Currency Address—XVG DFFJhnQNZf8rf67tYnesPu7MuGUpYtzv7Z; National ID No. 4220104113771 (Pakistan) (individual) [CYBER2] [ELECTION-EO13848] (Linked To: SECONDEYE SOLUTION).

Designated pursuant to section 2(a)(iii) of E.O. 13848 for being owned or controlled by, or having acted or purported to act for or on behalf of, directly or indirectly, SECONDEYE SOLUTION, a person whose property and interests in property are blocked pursuant to E.O. 13848.

Also designated pursuant to section l(a)(iii)(C) of E.O. 13694, as amended for being owned or controlled by, or having acted or purported to act for or on behalf of, directly or indirectly, SECONDEYE SOLUTION, a person whose property and interests in property are blocked pursuant E.O. 13694, as amended.

10. RAZA, Syed Ali (a.k.a. RAZA ZAIDI, Syed Ali), Karachi, Pakistan; DOB 15 Oct 1992; nationality Pakistan; Email Address syedaliraza940@gmail.com; alt. Email Address raza.zaidi92@yahoo.com; alt. Email Address kool_boy92@hotmail.com; alt. Email Address s.alirz92@gmail.com; Gender Male; National ID No. 4220157603253 (Pakistan) (individual) [CYBER2] [ELECTION-EO13848] (Linked To: SECONDEYE SOLUTION).

Designated pursuant to section 2(a)(iii) of E.O. 13848 for being owned or controlled by, or having acted or purported to act for or on behalf of, directly or indirectly, SECONDEYE SOLUTION, a person whose property and interests in property are blocked pursuant to E.O. 13848.

Also designated pursuant to section l(a)(iii)(C) of E.O. 13694, as amended for being owned or controlled by, or having acted or purported to act for or on behalf of, directly or indirectly, SECONDEYE SOLUTION, a person whose property and interests in property are blocked pursuant E.O. 13694, as amended.

11. RAZA, Mohsin (a.k.a. AMIRI, Mohsin Raza), Karachi, Pakistan; DOB 25 May 1986; nationality Pakistan; Email Address alimohsin228@gmail.com; alt. Email Address mohsinrazaamiri@gmail.com; alt. Email Address alimohsin228@yahoo.com; alt. Email Address amestypezx@yahoo.com; alt. Email Address mohsin@forwarderz.com; alt. Email Address great_guy1102002@yahoo.com; Gender Male; National ID No. 4220198261523 (Pakistan) (individual) [CYBER2] [ELECTION-EO13848] (Linked To: SECONDEYE SOLUTION).

Designated pursuant to section 2(a)(iii) of E.O. 13848 for being owned or controlled by, or having acted or purported to act for or on behalf of, directly or indirectly, SECONDEYE SOLUTION, a person whose property and interests in property are blocked pursuant to E.O. 13848.

Also designated pursuant to section l(a)(iii)(C) of E.O. 13694, as amended for being owned or controlled by, or having acted or purported to act for or on behalf of, directly or indirectly, SECONDEYE SOLUTION, a person whose property and interests in property are blocked pursuant E.O. 13694, as amended.

12. AFANASYEVA, Yulia Andreevna (Cyrillic: АФАНАСЬЕВА, Юлия Андреевна), St. Petersburg, Russia; DOB 24 Feb 1988; Gender Female; Tax ID No. 782516327349 (Russia) (individual) [UKRAINE-EO13661] [CYBER2] [ELECTION-EO13848].

Designated pursuant to section 2(a)(iii) of E.O. 13848 for being owned or controlled by, or having acted or purported to act for or on behalf of, directly or indirectly, YEVGENIY VIKTOROVICH PRIGOZHIN, a person whose property and interests in property are blocked pursuant to E.O. 13848.

Also designated pursuant to section l(a)(iii)(C) of E.O. 13694, as amended for being owned or controlled by, or having acted or purported to act for or on behalf of, directly or indirectly, YEVGENIY VIKTOROVICH PRIGOZHIN, a person whose property and interests in property are blocked pursuant to E.O. 13694, as amended.

Also designated pursuant to section l(a)(ii)(C)(2) of E.O. 13661 for being owned or controlled by, or having acted or purported to act for or on behalf of, directly or indirectly, YEVGENIY VIKTOROVICH PRIGOZHIN, a person whose property and interests in property are blocked pursuant to E.O. 13661.

13. BYCHKOV, Pyotr Aleksandrovich (Cyrillic: БЫЧКОВ, Пётр Александрович) (a.k.a. BICHKOV, Peter Alexandrovich; a.k.a. BYCHKOV, Petr Alexandrovich), St. Petersburg, Russia; DOB 25 Nov 1987; Gender Male; Tax ID No. 782513941021 (Russia) (individual) [UKRAINE-EO13661] [CYBER2] [ELECTION-EO13848] (Linked To: PRIGOZHIN, Yevgeniy Viktorovich).

Designated pursuant to section 2(a)(iii) of E.O. 13848 for being owned or controlled by, or having acted or purported to act for or on behalf of, directly or indirectly, YEVGENIY VIKTOROVICH PRIGOZHIN, a person whose property and interests in property are blocked pursuant to E.O. 13848.

Also designated pursuant to section l(a)(iii)(C) of E.O. 13694, as amended for being owned or controlled by, or having acted or purported to act for or on behalf of, directly or indirectly, YEVGENIY VIKTOROVICH PRIGOZHIN, a person whose property and interests in property are blocked pursuant to E.O. 13694, as amended.

Also designated pursuant to section l(a)(ii)(C)(2) of E.O. 13661 for being owned or controlled by, or having acted or purported to act for or on behalf of, directly or indirectly, YEVGENIY VIKTOROVICH PRIGOZHIN, a person whose property and interests in property are blocked pursuant to E.O. 13661.

14. KILIMNIK, Konstantin Viktorovich (Cyrillic: КИЛИМНИК, Константин Викторович), Moscow, Russia; Kyiv, Ukraine; DOB 27 Apr 1970; POB Kyiv, Ukraine; nationality Ukraine; citizen Ukraine; Gender Male; Passport 752512703 (Russia) (individual) [UKRAINE-EO13660] [ELECTION-EO13848] (Linked To: YANUKOVYCH, Viktor Fedorovych).

Designated pursuant to section 2(a)(i) of E.O. 13848 for having directly or indirectly engaged in, sponsored, concealed, or otherwise been complicit in foreign interference in a United States election.

Designated pursuant to section 1(a)(v) of Executive Order 13660 of March 6, 2014, “Blocking Property of Certain Persons Contributing to the Situation in Ukraine,” (E.O. 13660) for being owned or controlled by, or having acted or purported to act for or on behalf of, directly or indirectly, VIKTOR FEDOROVYCH YANUKOVYCH, a person whose property and interests in property are blocked pursuant to E.O. 13661.

15. PRIBYSHIN, Taras Kirillovich, St. Petersburg, Russia; DOB 28 Jun 1991; nationality Russia; Gender Male (individual) [UKRAINE-EO13661] [CYBER2] [ELECTION-EO13848] (Linked To: PRIGOZHIN, Yevgeniy Viktorovich; Linked To: INTERNET RESEARCH AGENCY LLC).

Designated pursuant to section 2(a)(iii) of E.O. 13848 for being owned or controlled by, or having acted or purported to act for or on behalf of, directly or indirectly, YEVGENIY VIKTOROVICH PRIGOZHIN and the INTERNET RESEARCH AGENCY LLC, persons whose property and interests in property are blocked pursuant to E.O. 13848.

Also designated pursuant to section l(a)(iii)(C) of E.O. 13694, as amended for being owned or controlled by, or having acted or purported to act for or on behalf of, directly or indirectly, YEVGENIY VIKTOROVICH PRIGOZHIN and the INTERNET RESEARCH AGENCY LLC, persons whose property and interests in property are blocked pursuant E.O. 13694, as amended.

Also designated pursuant to section l(a)(ii)(C)(2) of E.O. 13661 for being owned or controlled by, or having acted or purported to act for or on behalf of, directly or indirectly, YEVGENIY VIKTOROVICH PRIGOZHIN, a person whose property and interests in property are blocked pursuant E.O. 13661.

16. TYURIN, Denis Valeriyevich (Cyrillic: ТЮРИН, Денис Валерьевич), Moscow, Russia; DOB 01 Apr 1976; POB Russia; nationality Russia; Gender Male (individual) [NPWMD] [CYBER2] [CAATSA—RUSSIA] (Linked To: MAIN INTELLIGENCE DIRECTORATE).

Designated pursuant to section 1(a)(iii)(C) of E.O. 13694, as amended, for being owned or controlled by, or having acted or purported to act for or on behalf of, directly or indirectly, the Russian MAIN INTELLIGENCE DIRECTORATE, a person whose property and interests in property are blocked pursuant to E.O. 13694, as amended.

Also designated pursuant to section 224(a)(1)(B) of the Countering America's Adversaries Through Sanctions Act, Public Law 115-44, (CAATSA), for being owned or controlled by, or having acted or purported to act for or on behalf of, directly or indirectly, the Russian MAIN INTELLIGENCE DIRECTORATE, a person designated under Section 224(a)(1)(A) of CAATSA.

Also designated pursuant to section 1(a)(iv) of Executive Order 13382 of June 28, 2005, “Blocking Property of Weapons of Mass Destruction Proliferators and their Supporters,” 70 FR 38567, CFR 3, 2006 Comp., p. 170 (E.O. 13382), for being owned or controlled by, or having acted or purported to act for or on behalf of, directly or indirectly, the MAIN INTELLIGENCE DIRECTORATE, a person whose property and interests in property are blocked pursuant to E.O. 13382.

Entities

1. THE FOUNDATION FOR NATIONAL VALUES PROTECTION (Cyrillic: ФОНДА ЗАЩИТЫ НАЦИОНАЛЬНЫХ ЦЕННОСТЕЙ) (a.k.a. “FZNC”), Moscow, Russia; website fznc.world [UKRAINE-EO13661] [CYBER2] [ELECTION-EO13848] (Linked To: MALKEVICH, Alexander Aleksandrovich; Linked To: PRIGOZHIN, Yevgeniy Viktorovich).

Designated pursuant to section 2(a)(iii) of E.O. 13848 for being owned or controlled by, or having acted or purported to act for or on behalf of, directly or indirectly, YEVGENIY VIKTOROVICH PRIGOZHIN and ALEXANDER ALEKSANDROVICH MALKEVICH, persons whose property and interests in property are blocked pursuant to E.O. 13848.

Also designated pursuant to section l(a)(iii)(C) of E.O. 13694, as amended for being owned or controlled by, or having acted or purported to act for or on behalf of, directly or indirectly, YEVGENIY VIKTOROVICH PRIGOZHIN and ALEXANDER ALEKSANDROVICH MALKEVICH, persons whose property and interests in property are blocked pursuant E.O. 13694, as amended.

Also designated pursuant to section l(a)(ii)(C)(2) of E.O. 13661 for being owned or controlled by, or having acted or purported to act for or on behalf of, directly or indirectly, YEVGENIY VIKTOROVICH PRIGOZHIN and ALEXANDER ALEKSANDROVICH MALKEVICH, persons whose property and interests in property are blocked pursuant E.O. 13661.

2. OOO ALKON (a.k.a. “LIMITED LIABILITY COMPANY ALKON”), Moscow, Russia; Organization Established Date 07 Jul 2006; Tax ID No. 7703599373 (Russia) [UKRAINE-EO13661] [CYBER2] [ELECTION-EO13848] (Linked To: SHCHERBAKOV, Kirill Konstantinovich).

Designated pursuant to section 2(a)(iii) of E.O. 13848 for being owned or controlled by, or having acted or purported to act for or on behalf of, directly or indirectly, KIRILL KONSTANTINOVICH SHCHERBAKOV, a person whose property and interests in property are blocked pursuant to E.O. 13848.

Also designated pursuant to section l(a)(iii)(C) of E.O. 13694, as amended for being owned or controlled by, or having acted or purported to act for or on behalf of, directly or indirectly, KIRILL KONSTANTINOVICH SHCHERBAKOV, a person whose property and interests in property are blocked pursuant to E.O. 13694, as amended.

Also designated pursuant to section l(a)(ii)(C)(2) of E.O. 13661 for being owned or controlled by, or having acted or purported to act for or on behalf of, directly or indirectly, KIRILL KONSTANTINOVICH SHCHERBAKOV, a person whose property and interests in property are blocked pursuant to E.O. 13661.

3. OOO YUNIDZHET (Cyrillic: ООО ЮНИДЖЕТ) (a.k.a. UNIJET; a.k.a. “UNIJET COMPANY LIMITED”), Moscow, Russia; website unijet.ru; Organization Established Date 10 Dec 2009; Tax ID No. 7703711949 (Russia) [UKRAINE-EO13661] [CYBER2] [ELECTION-EO13848] (Linked To: PRIGOZHIN, Yevgeniy Viktorovich).

Designated pursuant to section 2(a)(ii) of E.O. 13848 for having materially assisted, sponsored, or provided financial, material, or technological support for, or goods or services to or in support of, YEVGENIY VIKTOROVICH PRIGOZHIN, a person whose property and interests in property are blocked pursuant to E.O. 13848.

Also designated pursuant to section 1(a)(iii)(B) of E.O. 13694, as amended for having materially assisted, sponsored, or provided financial, material, or technological support for, or goods or services to or in support of, YEVGENIY VIKTOROVICH PRIGOZHIN, a person whose property and interests in property are blocked pursuant to E.O. 13694, as amended.

Also designated pursuant to section 1(a)(ii)(D)(2) of E.O. 13661 for having materially assisted sponsored, or provided financial, material, or technological support for, or goods or services to or in support of, YEVGENIY VIKTOROVICH PRIGOZHIN, a person whose property and interests in property are blocked pursuant to E.O. 13661.

4. NEWSFRONT, Ukraine; website news-front.info; Organization Type: News agency activities [NPWMD] [CYBER2] [CAATSA—RUSSIA] [ELECTION-EO13848] (Linked To: FEDERAL SECURITY SERVICE).

Designated pursuant to section l(a)(iii)(C) of E.O. 13694, as amended for being owned or controlled by, or having acted or purported to act for or on behalf of, directly or indirectly, the FEDERAL SECURITY SERVICE, a person whose property and interests in property are blocked pursuant to E.O. 13694, as amended.

Also designated pursuant to section 224(a)(1)(B) of the Countering America's Adversaries Through Sanctions Act, Public Law 115-44, (CAATSA), for being owned or controlled by, or having acted or purported to act for or on behalf of, directly or indirectly, the Russian FEDERAL SECURITY SERVICE, a person designated under Section 224(a)(1)(A) of CAATSA.

Also designated pursuant to section 1(a)(iii) of E.O. 13382, for being owned or controlled by, or having acted or purported to act for or on behalf of, directly or indirectly, the FEDERAL SECURITY SERVICE, a person whose property and interests in property are blocked pursuant to E.O. 13382.

5. FRESH AIR FARM HOUSE (a.k.a. FRESH AIR FARM HOUSE KARACHI), Karachi, Pakistan; Phone Number 923453272659; alt. Phone Number 923209299030 [CYBER2] [ELECTION-EO13848] (Linked To: RAZA, Mohsin; Linked To: RAZA, Mujtaba Ali).

Designated pursuant to section 2(a)(iii) of E.O. 13848 for being owned or controlled by, or having acted or purported to act for or on behalf of, directly or indirectly, MUJTABA ALI RAZA and MOSHIN RAZA, persons whose property and interests in property are blocked pursuant to E.O. 13848.

Also designated pursuant to section l(a)(iii)(C) of E.O. 13694, as amended for being owned or controlled by, or having acted or purported to act for or on behalf of, directly or indirectly, MUJTABA ALI RAZA and MOSHIN RAZA, persons whose property and interests in property are blocked pursuant E.O. 13694, as amended.

6. LIKE WISE, Shop No 5, Jamshed Quarter, Karachi, Pakistan; Phone Number 923452179668; Registration Number 4220198261523 (Pakistan) [CYBER2] [ELECTION-EO13848] (Linked To: RAZA, Mohsin; Linked To: RAZA, Mujtaba Ali).

Designated pursuant to section 2(a)(iii) of E.O. 13848 for being owned or controlled by, or having acted or purported to act for or on behalf of, directly or indirectly, MUJTABA ALI RAZA and MOSHIN RAZA, persons whose property and interests in property are blocked pursuant to E.O. 13848.

Also designated pursuant to section l(a)(iii)(C) of E.O. 13694, as amended for being owned or controlled by, or having acted or purported to act for or on behalf of, directly or indirectly, MUJTABA ALI RAZA and MOSHIN RAZA, persons whose property and interests in property are blocked pursuant E.O. 13694, as amended.

7. MKSOFTTECH, Karachi, Pakistan; 631-C, 6th Floor, Mashriq Center, Stadium Road, Karachi, Pakistan; website mksofttech.com; Email Address info@mksofttech.com [CYBER2] [ELECTION-EO13848] (Linked To: RAZA, Mohsin; Linked To: RAZA, Mujtaba Ali).

Designated pursuant to section 2(a)(iii) of E.O. 13848 for being owned or controlled by, or having acted or purported to act for or on behalf of, directly or indirectly, MUJTABA ALI RAZA and MOSHIN RAZA, persons whose property and interests in property are blocked pursuant to E.O. 13848.

Also designated pursuant to section l(a)(iii)(C) of E.O. 13694, as amended for being owned or controlled by, or having acted or purported to act for or on behalf of, directly or indirectly, MUJTABA ALI RAZA and MOSHIN RAZA, persons whose property and interests in property are blocked pursuant E.O. 13694, as amended.

8. SECONDEYE SOLUTION (a.k.a. FORWARDERZ), Karachi, Pakistan; website secondeyesolution.su; alt. website secondeyesolution.ch; alt. website secondeyesolution.ru; alt. website secondeyesolution.com; alt. website forwarderz.com; alt. website secondeyehost.com; Email Address support@secondeyesolution.com; alt. Email Address info@forwarderz.com; alt. Email Address forwarderz@yahoo.com; alt. Email Address forwarderzlive@google.com; alt. Email Address forwarderzlive@hotmail.com; alt. Email Address support@secondeyehost.com; Digital Currency Address—XBT 1NE2NiGhhbkFPSEyNWwj7hKGhGDedBtSrQ; alt. Digital Currency Address—XBT 19D8PHBjZH29uS1uPZ4m3sVyqqfF8UFG9o; alt. Digital Currency Address—XBT 1EYitrwBYNWuTBcjZFbEUdqHppe2raLpaF; alt. Digital Currency Address—XBT 1G9CKRHA3mx22DoT1QyNYrh85VSQ19Y1em; alt. Digital Currency Address—XBT 182NGZbPJXwg2WDrhrPpR7tpiGQkNPF844; alt. Digital Currency Address—XBT 1NayLEVF3bEEbDtdF2Cwso1VdEtvVNh2qX; alt. Digital Currency Address—XBT 16PhXY3hNNMTo8kpuJx2emh713KbWpkqci; alt. Digital Currency Address—XBT 1GqChmWqGtsaLrGbHfgdrV5Nkvahtjjuxr; alt. Digital Currency Address—XBT 18Ke1QWE9nQfXuhJijHggZuPJ5ZYxapoBK; alt. Digital Currency Address—XBT 1QJUiNsNfji6mR1FjAwf6Eg9NxxHPoxpWL; alt. Digital Currency Address—XBT 1DtGgdCi9VPKz2Bpq8GQhUQEPnQ5HwaT9n; Digital Currency Address—ETH 0x1da5821544e25c636c1417ba96ade4cf6d2f9b5a; alt. Digital Currency Address—ETH 0x7Db418b5D567A4e0E8c59Ad71BE1FcE48f3E6107; alt. Digital Currency Address—ETH 0x72a5843cc08275C8171E582972Aa4fDa8C397B2A; alt. Digital Currency Address—ETH 0x7F19720A857F834887FC9A7bC0a0fBe7Fc7f8102; Digital Currency Address—LTC LQAhYwwK5AR1JQiQPr7vu8Pu4b6qcxxvNB; alt. Digital Currency Address—LTC LgwmgYnraU2uBWHVFUDgAmFCPYj5Yw8C9L; alt. Digital Currency Address—LTC LeKvNdNEzgQkzVVnRdV3fAu2DSF1nLsNw6; Digital Currency Address—BCH 18M8bJWMzWHDBMxoLqjHHAffdRy4SrzkfB [CYBER2] [ELECTION-EO13848] (Linked To: INTERNET RESEARCH AGENCY LLC).

Designated pursuant to section 2(a)(iii) of E.O. 13848 for being owned or controlled by, or having acted or purported to act for or on behalf of, directly or indirectly, the INTERNET RESEARCH AGENCY LLC, a person whose property and interests in property are blocked pursuant to E.O. 13848.

Also designated pursuant to section l(a)(iii)(C) of E.O. 13694, as amended for being owned or controlled by, or having acted or purported to act for or on behalf of, directly or indirectly, the INTERNET RESEARCH AGENCY LLC, a person whose property and interests in property are blocked pursuant E.O. 13694, as amended.

9. THE OXYTECH, Karachi, Pakistan; website theoxytech.com; Email Address support@theoxytech.com [CYBER2] [ELECTION-EO13848] (Linked To: RAZA, Mujtaba Ali; Linked To: RAZA, Mohsin).

Designated pursuant to section 2(a)(iii) of E.O. 13848 for being owned or controlled by, or having acted or purported to act for or on behalf of, directly or indirectly, MUJTABA ALI RAZA and MOSHIN RAZA, persons whose property and interests in property are blocked pursuant to E.O. 13848.

Also designated pursuant to section l(a)(iii)(C) of E.O. 13694, as amended for being owned or controlled by, or having acted or purported to act for or on behalf of, directly or indirectly, MUJTABA ALI RAZA and MOSHIN RAZA, persons whose property and interests in property are blocked pursuant E.O. 13694, as amended.

10. SOUTHFRONT (a.k.a. SOUTH FRONT; a.k.a. SOUTHFRONT: ANALYSIS & INTELLIGENCE), Russia; website southfront.org; Digital Currency Address—XBT 3Gbs4rjcVUtQd8p3CiFUCxPLZwRqurezRZ; Digital Currency Address—ETH 0x9f4cda013e354b8fc285bf4b9a60460cee7f7ea9; Organization Type: News agency activities; Digital Currency Address—BCH qpf2cphc5dkuclkqur7lhj2yuqq9pk3hmukle77vhq [NPWMD] [CYBER2] [ELECTION-EO13848] (Linked To: FEDERAL SECURITY SERVICE).

Designated pursuant to section 2(a)(i) of E.O. 13848 for having directly or indirectly engaged in, sponsored, concealed, or otherwise been complicit in foreign interference in a United States election.

Also designated pursuant to section 1(a)(iii)(B) of E.O. 13694, as amended, for having materially assisted, sponsored or provided financial, material, or technological support for, or goods or services to or in support of, the FEDERAL SECURITY SERVICE, a person whose property and interests in property are blocked pursuant to E.O. 13694, as amended.

Also designated pursuant to section 1(a)(iii) of E.O. 13382, for being owned or controlled by, or having acted or purported to act for or on behalf of, directly or indirectly, the FEDERAL SECURITY SERVICE, a person whose property and interests in property are blocked pursuant to E.O. 13382.

11. THE STRATEGIC CULTURE FOUNDATION (Cyrillic: ФОНД СТРАТЕГИЧЕСКОЙ КУЛЬТУРЫ), Russia; website strategic-culture.org; Organization Type: News agency activities [ELECTION-EO13848].

Designated pursuant to section 2(a)(i) of E.O. 13848 for having directly or indirectly engaged in, sponsored, concealed, or otherwise been complicit in foreign interference in a United States election.

12. ASSOCIATION FOR FREE RESEARCH AND INTERNATIONAL COOPERATION (a.k.a. “AFRIC”), Russia; Email Address Africonline@protonmail.com; Digital Currency Address—ZEC t1MMXtBrSp1XG38Lx9cePcNUCJj5vdWfUWL; Digital Currency Address—DASH XyARKoupuArYtToA2S6yMdnoquDCDaBsaT [UKRAINE-EO13661] [CYBER2] [ELECTION-EO13848] (Linked To: PRIGOZHIN, Yevgeniy Viktorovich).

Designated pursuant to section 2(a)(iii) of E.O. 13848 for being owned or controlled by, or having acted or purported to act for or on behalf of, directly or indirectly, YEVGENIY VIKTOROVICH PRIGOZHIN, a person whose property and interests in property are blocked pursuant to E.O. 13848.

Also designated pursuant to section l(a)(iii)(C) of E.O. 13694, as amended for being owned or controlled by, or having acted or purported to act for or on behalf of, directly or indirectly, YEVGENIY VIKTOROVICH PRIGOZHIN, a person whose property and interests in property are blocked pursuant to E.O. 13694, as amended.

Also designated pursuant to section l(a)(ii)(C)(2) of E.O. 13661 for being owned or controlled by, or having acted or purported to act for or on behalf of, directly or indirectly, YEVGENIY VIKTOROVICH PRIGOZHIN, a person whose property and interests in property are blocked pursuant to E.O. 13661.

13. INTERNATIONAL ANTICRISIS CENTER (Cyrillic: МЕЖДУНАРОДНЫЙ АНТИКРИЗИСНЫЙ ЦЕНТР), Russia; website anticrisis.cc; Email Address info@anticrisis.cc [UKRAINE-EO13661] [CYBER2] [ELECTION-EO13848] (Linked To: PRIGOZHIN, Yevgeniy Viktorovich).

Designated pursuant to section 2(a)(iii) of E.O. 13848 for being owned or controlled by, or having acted or purported to act for or on behalf of, directly or indirectly, YEVGENIY VIKTOROVICH PRIGOZHIN, a person whose property and interests in property are blocked pursuant to E.O. 13848.

Also designated pursuant to section l(a)(iii)(C) of E.O. 13694, as amended for being owned or controlled by, or having acted or purported to act for or on behalf of, directly or indirectly, YEVGENIY VIKTOROVICH PRIGOZHIN, a person whose property and interests in property are blocked pursuant to E.O. 13694, as amended.

Also designated pursuant to section l(a)(ii)(C)(2) of E.O. 13661 for being owned or controlled by, or having acted or purported to act for or on behalf of, directly or indirectly, YEVGENIY VIKTOROVICH PRIGOZHIN, a person whose property and interests in property are blocked pursuant to E.O. 13661.

14. TRANS LOGISTIK, OOO (Cyrillic: OOO ТРАНС ЛОГИСТИК) (a.k.a. “TRANS LOGISTIC”), d. 37 litera A etazh, pom., ofis 2/66/215, prospekt Stachek, St. Petersburg 198097, Russia; Tax ID No. 7805719070 (Russia); Government Gazette Number 20567335 (Russia); Registration Number 1177847397848 (Russia) [UKRAINE-EO13661] [CYBER2] [ELECTION-EO13848] (Linked To: PRIGOZHIN, Yevgeniy Viktorovich).

Designated pursuant to section 2(a)(ii) of E.O. 13848 for having materially assisted, sponsored, or provided financial, material, or technological support for, or goods or services to or in support of, YEVGENIY VIKTOROVICH PRIGOZHIN, a person whose property and interests in property are blocked pursuant to E.O. 13848.

Also designated pursuant to section 1(a)(iii)(B) of E.O. 13694, as amended for having materially assisted, sponsored, or provided financial, material, or technological support for, or goods or services to or in support of, YEVGENIY VIKTOROVICH PRIGOZHIN, a person whose property and interests in property are blocked pursuant to E.O. 13694, as amended.

Also designated pursuant to section 1(a)(ii)(D)(2) of E.O. 13661 for having materially assisted sponsored, or provided financial, material, or technological support for, or goods or services to or in support of, YEVGENIY VIKTOROVICH PRIGOZHIN, a person whose property and interests in property are blocked pursuant to E.O. 13661.

15. IA INFOROS, OOO (Cyrillic: ООО ИА ИНФОРОС) (a.k.a. INFOROS INFORMATION AGENCY, CO, LTD.; a.k.a. NEWS AGENCY INFOROS), Moscow, Russia; website inforos.ru; Organization Type: News agency activities; Tax ID No. 5025021509 (Russia) [NPWMD] [CYBER2] [CAATSA—RUSSIA] (Linked To: MAIN INTELLIGENCE DIRECTORATE).

Designated pursuant to section 1(a)(iii)(C) of E.O. 13694, as amended, for being owned or controlled by, or having acted or purported to act for or on behalf of, directly or indirectly, the Russian MAIN INTELLIGENCE DIRECTORATE, a person whose property and interests in property are blocked pursuant to E.O. 13694, as amended.

Also designated pursuant to section 224(a)(1)(B) of the Countering America's Adversaries Through Sanctions Act, Public Law 115-44, (CAATSA), for being owned or controlled by, or having acted or purported to act for or on behalf of, directly or indirectly, the Russian MAIN INTELLIGENCE DIRECTORATE, a person designated under Section 224(a)(1)(A) of CAATSA.

Also designated pursuant to section 1(a)(iv) of E.O. 13382, for being owned or controlled by, or having acted or purported to act for or on behalf of, directly or indirectly, the MAIN INTELLIGENCE DIRECTORATE, a person whose property and interests in property are blocked pursuant to E.O. 13382.

16. INFOROS, OOO (Cyrillic: ООО ИА ИНФОРОС), Moscow, Russia; Organization Type: News agency activities; Identification Number 7727214569 (Russia) [NPWMD] [CYBER2] [CAATSA—RUSSIA] (Linked To: MAIN INTELLIGENCE DIRECTORATE).

Designated pursuant to section 1(a)(iii)(C) of E.O. 13694, as amended, for being owned or controlled by, or having acted or purported to act for or on behalf of, directly or indirectly, the Russian MAIN INTELLIGENCE DIRECTORATE, a person whose property and interests in property are blocked pursuant to E.O. 13694, as amended.

Also designated pursuant to section 224(a)(1)(B) of the Countering America's Adversaries Through Sanctions Act, Public Law 115-44, (CAATSA), for being owned or controlled by, or having acted or purported to act for or on behalf of, directly or indirectly, the Russian MAIN INTELLIGENCE DIRECTORATE, a person designated under Section 224(a)(1)(A) of CAATSA.

Also designated pursuant to section 1(a)(iv) of E.O. 13382, for being owned or controlled by, or having acted or purported to act for or on behalf of, directly or indirectly, the MAIN INTELLIGENCE DIRECTORATE, a person whose property and interests in property are blocked pursuant to E.O. 13382.

Dated: April 15, 2021.
Bradley T. Smith,
Acting Director, Office of Foreign Assets Control.

[FR Doc. 2021-08087 Filed 4-19-21; 8:45 am]

BILLING CODE 4810-AL-P